DEPARTMENT OF ENERGY

Federal Energy Regulatory Commission

Combined Notice of Filings #1

Take notice that the Commission received the following electric corporate filings:

Docket Numbers: EC16-66-000.

Applicants: EAM Nelson Holding, LLC, Entergy Nuclear Fitzpatrick, LLC, Entergy Nuclear Generation Company, Entergy Nuclear Indian Point 2, LLC, Entergy Nuclear Indian Point 3, LLC, Entergy Nuclear Palisades, LLC, Entergy Nuclear Power Marketing, LLC, Entergy Power, LLC, EWO Marketing, LLC, Llano Estacado Wind, LLC, Northern Iowa Windpower, LLC, RS Cogen, LLC.

Description: Joint Application for Authorization of EAM Nelson Holding, LLC, et al.

Filed Date: 1/29/16.

Accession Number: 20160129-5527.

Comments Due: 5 p.m. ET 2/19/16.

Take notice that the Commission received the following electric rate filings:

Docket Numbers: ER10-3199-003.

Applicants: MDU Resources Group, Inc.

Description: Notice of Change in Status of MDU Resources Inc.

Filed Date: 1/29/16.

Accession Number: 20160129-5533.

Comments Due: 5 p.m. ET 2/19/16.

Docket Numbers: ER16-830-000.

Applicants: California Independent System Operator Corporation.

Description: § 205(d) Rate Filing: 20160129 Amendment 3 to Riverside MSSA to be effective 5/1/2016.

Filed Date: 1/29/16.

Accession Number: 20160129-5369.

Comments Due: 5 p.m. ET 2/19/16.

Docket Numbers: ER16-831-000.

Applicants: Cottonwood Solar, LLC.

Description: Compliance filing: Compliance Filing—Change in Seller Category Status to be effective 3/29/2016.

Filed Date: 1/29/16.

Accession Number: 20160129-5375.

Comments Due: 5 p.m. ET 2/19/16.

Docket Numbers: ER16-832-000.

Applicants: RE Camelot LLC.

Description: Compliance filing: Compliance Filing—Change in Seller Category Status to be effective 3/29/2016.

Filed Date: 1/29/16.

Accession Number: 20160129-5396.

Comments Due: 5 p.m. ET 2/19/16.

Docket Numbers: ER16-833-000.

Applicants: Midcontinent Independent System Operator, Inc.

Description: Compliance filing: 2016-01-29 PRA 30 day Compliance Filing to be effective 1/30/2016.

Filed Date: 1/29/16.

Accession Number: 20160129-5418.

Comments Due: 5 p.m. ET 2/19/16.

Docket Numbers: ER16-834-000.

Applicants: RE Columbia Two LLC.

Description: Compliance filing: Compliance Filing—Change in Seller Category Status to be effective 3/29/2016.

Filed Date: 1/29/16.

Accession Number: 20160129-5450.

Comments Due: 5 p.m. ET 2/19/16.

Docket Numbers: ER16-835-000.

Applicants: New York Independent System Operator, Inc.

Description: § 205(d) Rate Filing: NYPA revisions re: NTAC formula rate schedule to be effective 4/1/2016.

Filed Date: 1/29/16.

Accession Number: 20160129-5451.

Comments Due: 5 p.m. ET 2/19/16.

Docket Numbers: ER16-836-000.

Applicants: New England Power Pool Participants Committee.

Description: § 205(d) Rate Filing: February 2016 Membership Filing to be effective 1/1/2016.

Filed Date: 1/29/16.

Accession Number: 20160129-5458.

Comments Due: 5 p.m. ET 2/19/16.

Docket Numbers: ER16-837-000.

Applicants: Imperial Valley Solar Company (IVSC) 2, LLC.

Description: Compliance filing: Compliance Filing—Change in Seller Category Status to be effective 3/29/2016.

Filed Date: 1/29/16.

Accession Number: 20160129-5474.

Comments Due: 5 p.m. ET 2/19/16.

Docket Numbers: ER16-838-000.

Applicants: Maricopa West Solar PV, LLC.

Description: Compliance filing: Compliance Filing—Change in Seller Category Status to be effective 3/29/2016.

Filed Date: 1/29/16.

Accession Number: 20160129-5482.

Comments Due: 5 p.m. ET 2/19/16.

Docket Numbers: ER16-839-000.

Applicants: Otter Tail Power Company.

Description: Notice of Termination of Rate Schedule No. 165 of Otter Tail Power Company.

Filed Date: 1/29/16.

Accession Number: 20160129-5526.

Comments Due: 5 p.m. ET 2/19/16.

Docket Numbers: ER16-840-000.

Applicants: Emera Maine.

Description: Notice of Termination by Emera Maine of Long-Term Transmission Service Agreements with Covanta Maine LLC.

Filed Date: 1/29/16.

Accession Number: 20160129-5549.

Comments Due: 5 p.m. ET 2/19/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 1, 2016.
Nathaniel J. Davis, Sr.,
Deputy Secretary.

[FR Doc. 2016-02256 Filed 2-4-16; 8:45 am]

BILLING CODE 6717-01-P